DEPARTMENT OF THE INTERIOR

Fish and Wildlife Service

[FWS-R6-R-2008-N0091; 60138-1265-6CCP-S3]

Draft Comprehensive Conservation Plan for Twelve National Wildlife Refuges, North Dakota

AGENCY: Fish and Wildlife Service, Interior.

ACTION: Notice of Availability.

SUMMARY: We, the U.S. Fish and Wildlife Service (Service) announce that our Draft Comprehensive Conservation Plan (CCP) and Environmental Assessment (EA) for the twelve National Wildlife Refuges (Refuges) are available. The twelve Refuges are combined and evaluated as one group and program under the CCP. The twelve Refuges include Audubon, Chase Lake, Kellys Slough, Lake Alice, Lake Ilo, Lake Nettie, Lake Zahl, McLean, Shell Lake, Stump Lake, Stewart Lake, and White Lake all located throughout the State of North Dakota. This Draft CCP/EA describes how the Service intends to manage these Refuges for the next 15 years.

DATES: To ensure consideration, we must receive your written comments on the draft CCP/EA by September 29, 2008.

ADDRESSES: Please provide written comments to John Esperance, Planning Team Leader, Division of Refuge Planning, P.O. Box 25486, Denver Federal Center, Denver, Colorado 80225; via facsimile at 303-236-4792; or electronically to John_Esperance@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: John Esperance, 303-236-4369 (phone); 303-236-4792 (fax); or John_Esperance@fws.gov (e-mail).

SUPPLEMENTARY INFORMATION: All twelve Refuges were established under authority to provide breeding ground for migratory birds and other wildlife. The twelve National Wildlife Refuges conserve, restore, and enhance the ecological diversity of grasslands and wetlands of the North Dakota prairie to support healthy populations of ducks and geese, other migratory birds, and native species. Through this work, the twelve Refuges provide vital resting and breeding habitat.

This draft CCP/EA identifies and evaluates three alternatives for managing the Refuges for the next 15 years.

Alternative A: Funding, staff levels, and management activities at the Refuges would not change. Programs would follow the same direction, emphasis, and intensity as they do at present. The Service would prioritize management of wildlife habitat and associated species on Refuges' lands into high, medium, and low areas. Only high priority lands receive consistent management. Refuge staffs conduct limited, issue-driven research and limited monitoring and inventory of birds and vegetation. On a multiyear rotation among Refuges, the staffs conduct public use events and workshops with such groups as school districts, youth groups, and conservation groups.

Alternative B: The Service's proposed action. Wildlife habitat management would provide for enhanced wetland and upland management, where warranted, on Refuge lands. Management objectives for various habitat types would be based on habitat preferences of groups of target species, such as waterfowl, migratory shore birds, grassland bird species and priority species. Refuge staff will focus on high priority tracts and medium priority tracts. The Refuge staff will implement compatible production enhancement techniques for targeted migratory bird populations. The Refuge staff will maintain existing environmental education and public use programs, with additional waterfowl emphasis. The Service proposes, at a future date, a new environmental learning center for Audubon NWR and interpretive panels are planned for Lake Alice NWR.

Alternative C: Refuge staff would apply more intensive and widespread management that targets native prairie/wetland complexes. Refuge staff would seek out restoration projects that expand and return grasslands to a quality native prairie. This alternative would have the potential to provide additional management options to address habitat requirements and needs of specific groups of water dependent birds (for example, waterfowl and shorebirds). The staff would develop new environmental education and visitor services programs. The Service proposes, at a future date, a new environmental learning center for Audubon NWR and interpretive panels are planned for Lake Alice NWR.

Opportunity for public input will be provided by the Service. All public comment information provided voluntarily by mail, by phone, or at meetings (for example, names, addresses, letters of comment, input recorded during meetings) becomes part of the official Public Record. If requested under the Freedom of Information Act by a private citizen or organization, the Service may provide copies of such information. The Environmental Review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: April 23, 2008.
Stephen Guertin,
Regional Director.

[FR Doc. E8-19724 Filed 8-27-08; 8:45 am]

BILLING CODE 4310-55-P